DEPARTMENT OF ENERGY

Federal Energy Regulatory Commission

[Docket No. EL13-58-000]

J.P. Morgan Ventures Energy Corp. v. Midwest Independent System Operator, Inc. PJM Interconnection, L.L.C.; Notice of Complaint

Take notice that on April 10, 2013, J.P. Morgan Ventures Energy Corporation (JPMVEC or Complainant) filed a formal complaint against Midwest Independent System Operator, Inc. and PJM Interconnection, L.L.C. (collectively, Respondents), pursuant to section 206 of the Federal Power Act and Rule 206 of the Commission's rules of Practice and Procedure, alleging that the Respondents' tariffs should be amended if necessary to implement the Commission's orders implementing JPMVEC's suspension of its market-based rate authority.

JPMVEC certifies that copies of the complaint were served on the contacts for Respondents as listed on the Commission's list of Corporate Officials and on parties and regulatory agencies JPMVEC reasonably expects to be affected by this complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 26, 2013.

Dated: April 16, 2013.
Kimberly D. Bose,
Secretary.

[FR Doc. 2013-09612 Filed 4-23-13; 8:45 am]

BILLING CODE 6717-01-P